NATIONAL CREDIT UNION ADMINISTRATION

Sunshine Act; Notice of Agency Meeting

TIME AND DATE: 10 a.m., Wednesday, December 14, 2011.

PLACE: Board Room, 7th Floor, Room 7047, 1775 Duke Street, Alexandria, VA 22314-3428.

STATUS: Closed.

MATTERS TO BE CONSIDERED: 1. Personnel. Closed pursuant to Exemption (2).

2. Action under Section 205 of the Federal Credit Union Act. Closed pursuant to Exemption (6).

3. Member Business Loan Waiver Appeal. Closed pursuant to Exemptions (4), (6) and (8).

4. Consideration of Supervisory Activities (6). Closed pursuant to some or all of the following: exemptions (8), (9)(i)(B), and 9(ii).

FOR FURTHER INFORMATION CONTACT: Mary Rupp, Secretary of the Board, Telephone: (703) 518-6304.

Mary Rupp,
Board Secretary.

[FR Doc. 2011-31806 Filed 12-7-11; 4:15 pm]

BILLING CODE 7535-01-P